DEPARTMENT OF TRANSPORTATION

Federal Aviation Administration

14 CFR Part 39

[Docket No. FAA-2017-1120; Product Identifier 2017-CE-030-AD]

RIN 2120-AA64

Airworthiness Directives; Textron Aviation Inc. Airplanes

AGENCY: Federal Aviation Administration (FAA), DOT.

ACTION: Notice of proposed rulemaking (NPRM).

SUMMARY: We propose to adopt a new airworthiness directive (AD) for certain Textron Aviation Inc. Models 510, 680, and 680A airplanes equipped with certain part number brake assemblies. This proposed AD was prompted by a report that brake pad wear indicator pins were set incorrectly, which could lead to brake pad wear beyond the acceptable limits without indication. This proposed AD would require inspection of the brake pad wear indicator pins and replacement of the brake assembly if any pin is set incorrectly. We are proposing this AD to address the unsafe condition on these products.

DATES: We must receive comments on this proposed AD by January 25, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Textron Aviation Inc., One Cessna Boulevard, P.O. Box 7704, Wichita, Kansas 67277; phone: 316-517-6215; email: citationpubs@txtav.com; Internet: https://support.cessna.com/custsupt/csupport/newlogin.jsp; or UTC Aerospace Systems, Goodrich Corporation, 101 Waco Street, P.O. Box 340, Troy, Ohio 45373; phone: 937-339-3811; email: awb.techpubs@utas.utc.com; Internet: https://www.customers.utcaerospacesystems.com/. You may view this service information at the FAA, Policy and Innovation Division, 901 Locust, Kansas City, Missouri 64106. For information on the availability of this material at the FAA, call (816) 329-4148.

Examining the AD Docket

You may examine the AD docket on the Internet at http://www.regulations.gov by searching for and locating Docket No. FAA-2017-1120; or in person at the Docket Management Facility between 9 a.m. and 5 p.m., Monday through Friday, except Federal holidays. The AD docket contains this NPRM, the regulatory evaluation, any comments received, and other information. The street address for the Docket Office (phone: 800-647-5527) is in the ADDRESSES section. Comments will be available in the AD docket shortly after receipt.

For Further Information Contact One of the Following:

• For the Model 510: David Enns, Aerospace Engineer, Wichita ACO Branch, FAA, 1801 Airport Road, Room 100, Wichita, Kansas 67209; phone: 316-946-4147; fax: 913-946-4107; email: david.enns@faa.gov; or

• For the Models 680 and 680A: Adam Hein, Aerospace Engineer, Wichita ACO Branch, FAA, 1801 Airport Road, Room 100, Wichita, Kansas 67209; phone: 316-946-4116; fax: 316-946-4107; email: adam.hein@faa.gov.

SUPPLEMENTARY INFORMATION:

Comments Invited

We invite you to send any written relevant data, views, or arguments about this proposal. Send your comments to an address listed under the ADDRESSES section. Include “Docket No. FAA-2017-1120; Product Identifier 2017-CE-030-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received information from UTC Aerospace Systems (UTC) that brake pad wear indicator pins were set incorrectly on certain Textron Aviation Inc. (Textron) Models 510, 680, and 680A airplanes equipped with brake assemblies, part numbers (P/Ns) 2-1706-1 and 2-1675-1, with certain serial numbers. Brakes overhauled by UTC may have wear indicator pins set longer than specified. UTC discovered this condition during their inspection of incoming brakes. This condition, if not corrected, could result in brake pad wear beyond the acceptable limits without indication and consequent loss of braking ability, which could lead to a runway excursion.

Related Service Information Under 1 CFR Part 51

We reviewed UTC Service Bulletin 2-1706-1-32-1, Revision 1, dated July 18, 2017; and UTC Service Bulletin 2-1675-32-2, Revision 1, dated July 18, 2017. For the applicable models, the service information identifies the affected serial number brake assemblies and describes procedures for inspecting the wear indicator pins. This service information is reasonably available because the interested parties have access to it through their normal course of business or by the means identified in the ADDRESSES section. These UTC service bulletins are included as attachments with the Textron service letters discussed in the Other Related Service Information paragraph.

Other Related Service Information

We also reviewed Textron Aviation Inc. Service Letters SL510-32-08, SL680-32-15, and SL680A-32-05, all dated July 21, 2017. For the applicable airplane models, these service letters direct the operators to use Goodrich Service Bulletins 2-1706-1-32-1 and 2-1675-32-2. However, the Goodrich Service Bulletins that the Textron Aviation Inc. Service Letters refer to and intend for operators to use are titled UTC Aerospace Systems Service Bulletin 2-1706-1-32-1, Revision 1, dated July 18, 2017; and UTC Aerospace Systems Service Bulletin 2-1675-32-2, Revision 1, dated July 18, 2017. The UTC service bulletins are included as attachments to the Textron service letters.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 668 airplanes of U.S. registry.

We estimate the following costs to comply with this proposed AD:

Estimated Costs
Action | Labor cost | Parts cost | Cost per product | Cost on U.S. operators
Inspection of the brake assembly wear indicator pins for Models 680 and 680A | 1 work-hour × $85 per hour = $85 | Not applicable | $85 | $31,790
Inspection of the brake assembly wear indicator pins for Model 510 | .5 work-hour × $85 per hour = $42.50 | Not applicable | 42.50 | 12,495

We estimate the following costs to do any necessary replacement that would be required based on the results of the proposed inspection. We have no way of determining the number of airplanes that might need these replacements:

On-Condition Costs
Action | Labor cost | Parts cost | Cost per product
Replacement of the brake assembly for Models 680 and 680A | 8 work-hours × $85 per hour = $680 | $106,164 | $106,844
Replacement of the brake assembly for Model 510 | 3 work-hours × $85 per hour = $255 | 10,828 | 11,083

According to the manufacturer, the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Textron Aviation Inc.: Docket No. FAA-2017-1120; Product Identifier 2017-CE-30-AD.

(a) Comments Due Date

We must receive comments by January 25, 2018.

(b) Affected ADs

None.

(c) Applicability

(1) This AD applies to Textron Aviation Inc. (Textron) (type certificates previously held by Cessna Aircraft Company) Models 510, 680, and 680A airplanes equipped with a brake assembly specified in paragraphs (c)(1)(i) and (ii) of this AD, certificated in any category:

(i) For Model 510 airplanes: Brake assembly part number (P/N) 2-1706-1 that has a serial number listed in table 1 of UTC Aerospace Systems (UTC) Service Bulletin 2-1706-1-32-1, Revision 1, July 18, 2017; and

(ii) Models 680 and 680A airplanes: Brake assembly P/N 2-1675-1 that has a serial number listed in table 1 of UTC Service Bulletin 2-1675-32-2, Revision 1, July 18, 2017.

(2) The UTC service bulletins are included as attachments to Textron Service Letters SL510-32-08, SL680-32-15, and SL680A-32-05, all dated July 21, 2017. However, you may also obtain the UTC service bulletins directly from UTC using the contact information found in paragraph (k)(2) of this AD.

(d) Subject

Joint Aircraft System Component (JASC)/Air Transport Association (ATA) of America Code 32, Landing Gear.

(e) Unsafe Condition

This AD was prompted by information received from UTC that brake pad wear indicator pins were set incorrectly. We are issuing this AD to detect and correct wear indicator pins that were set at an incorrect length. The unsafe condition, if not corrected, could result in brake pad wear beyond the acceptable limits without indication and consequent loss of braking ability, which could lead to a runway excursion.

(f) Compliance

Comply with this AD within the compliance times specified, unless already done.

(g) Inspection

(1) For Model 510 airplanes: Within 75 landings after the effective date of this AD or within 90 days after the effective date of this AD, whichever occurs first, inspect the brake pad wear indicator pins, P/N 2-1706-1, for correct length following UTC Service Bulletin 2-1706-1-32-1, Revision 1, July 18, 2017.

(2) For Models 680 and 680A airplanes: Within 200 landings after the effective date of this AD or within 90 days after the effective date of this AD, whichever occurs first, inspect the brake pad wear indicator pins, P/N 2-1675-1, for correct length following UTC Service Bulletin 2-1675-32-2, Revision 1, July 18, 2017.

(3) The compliance times in this AD are presented in landings. If you do not keep a record of the total number of landings, then multiply the total number of hours time-in-service (TIS) after the effective date by 0.85 for Model 510 airplanes and multiply the total number of hours TIS after the effective date by 0.73 for Models 680 and 680A airplanes to estimate the number of landings.

(h) Replacement

If any brake pad wear indicator pin is found to have an incorrect length during the inspection required in paragraph (g) of this AD, before further flight, contact Textron for FAA-approved replacement instructions approved specifically for this AD. You may use the contact information listed in paragraph (k)(2) of this AD, as applicable.

(i) Special Flight Permit

We allow a special flight permit per 14 CFR 39.23 for the replacement of the brake assembly required in paragraph (h) of this AD provided the wear indicator pin length extends a minimum of 0.200 inches beyond the brake assembly housing with the brakes engaged.

(j) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD.

(2) Before using any approved AMOC, notify your appropriate principal inspector, or lacking a principal inspector, the manager of the local flight standards district office/certificate holding district office.

(k) Related Information

(1) For more information about this AD, contact one of the following:

(i) For the Model 510: David Enns, Aerospace Engineer, Wichita ACO Branch, FAA, 1801 Airport Road, Room 100, Wichita, Kansas 67209; phone: 316-946-4147; fax: 913-946-4107; email: david.enns@faa.gov; or

(ii) For the Models 680 and 680A: Adam Hein, Aerospace Engineer, Wichita ACO Branch, FAA, 1801 Airport Road, Room 100, Wichita, Kansas 67209; phone: 316-946-4116; fax: 316-946-4107; email: adam.hein@faa.gov.

(2) For service information identified in this AD, contact Textron Aviation Inc., One Cessna Boulevard, P.O. Box 7704, Wichita, Kansas 67277; phone: 316-517-6215; email: citationpubs@txtav.com; Internet: https://support.cessna.com/custsupt/csupport/newlogin.jsp; or UTC Aerospace Systems, Goodrich Corporation, 101 Waco Street, P.O. Box 340, Troy, Ohio 45373; phone: 937-339-3811; email: awb.techpubs@utas.utc.com; Internet: https://www.customers.utcaerospacesystems.com/. You may view this referenced service information at the FAA, Policy and Innovation Division, 901 Locust, Kansas City, Missouri 64106. For information on the availability of this material at the FAA, call (816) 329-4148.

Issued in Kansas City, Missouri, on November 21, 2017.
Melvin J. Johnson,
Deputy Director, Policy & Innovation Division, Aircraft Certification Service.

[FR Doc. 2017-26038 Filed 12-8-17; 8:45 am]

BILLING CODE 4910-13-P